DEPARTMENT OF HEALTH AND HUMAN SERVICES

National Institutes of Health

Center for Scientific Review; Amended Notice of Meeting

Notice is hereby given of a change in the meeting of the Center for Scientific Review Special Emphasis Panel, February 22, 2008, 8 a.m. to February 22, 2008, 5 p.m., Holiday Inn Georgetown, 2101 Wisconsin Avenue, NW., Washington, DC 20007, which was published in the Federal Register on January 22, 2008, 73 FR 3733-3735.

The meeting will be held February 21, 2008, 6 p.m. to February 22, 2008, 7 p.m. The meeting location remains the same. The meeting is closed to the public.

Dated: January 25, 2008.
Jennifer Spaeth,
Director, Office of Federal Advisory Committee Policy.

[FR Doc. 08-435 Filed 1-31-08; 8:45 am]

BILLING CODE 4140-01-M